DEPARTMENT OF DEFENSE

Office of the Secretary

Defense Science Board

AGENCY: Department of Defense.

ACTION: Notice of Advisory Committee Meeting Date Change.

SUMMARY: On Friday, February 25, 2005 (70 FR 9280-9281) the Department of Defense announced open meetings of the Defense Science Board (DSB) Task Force on Roles and Authorities of the Director of Defense Research and Engineering scheduled for February 24, 2005 and March 14, 2005. These meetings will now be closed. Due to inclement weather the meeting on February 24, 2005 was canceled and rescheduled for March 2, 2005. Both meetings will be held at Strategic Analysis Inc., 3601 Wilson Boulevard, Suite 600, Arlington, VA.

Dated: March 1, 2005.
Jeannette Owings-Ballard,
OSD Federal Register Liaison Officer, Department of Defense.

[FR Doc. 05-4372 Filed 3-4-05; 8:45 am]

BILLING CODE 5001-06-M